DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 5 additional entities and individuals whose property and interests in property have been blocked pursuant to the Foreign Narcotics Kingpin Designation Act (“Kingpin Act”) (21 U.S.C. 1901-1908, 8 U.S.C. 1182).

DATES: The designation by the Secretary of the Treasury of the two entities and four individuals identified in this notice pursuant to section 805(b) of the Kingpin Act is effective on April 22, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 22, 2008, OFAC designated two additional entities and four additional individuals whose property and interests in property are blocked pursuant to section 805(b) of the Foreign Narcotics Kingpin Designation Act.

The list of additional designees is as follows:

Entities

1. CAMBIOS NASDAQ LTDA, Avenida 15 No. 77-05 Local 2-106, Bogota, Colombia; NIT # 8301284123 (Colombia); (ENTITY) [SDNTK].

2. CAMBIOS EL TREBOL, Avenida Calle 26 No. 69C-03 Local 214, Bogota, Colombia; Commercial Registry Number 1404087 (Colombia); (ENTITY) [SDNTK].

Individuals

1. CALDERON VELANDIA, Nilson (a.k.a. “Villa”); Colombia; DOB 18 Jul 1974; POB Mogotes, Santander, Colombia; Citizen Colombia; Nationality Colombia; Cedula No. 91348897 (Colombia); Passport AK040618 (Colombia); (INDIVIDUAL) [SDNTK].

2. CAMACHO BERNAL, Jose Edilberto, Colombia; DOB 28 Feb 1954; POB Venecia, Cundinamarca, Colombia; Citizen Colombia; Nationality Colombia; Cedula No. 11374416 (Colombia); Passport AI222190 (Colombia); (INDIVIDUAL) [SDNTK].

3. DIAZ HERRERA, Carlos Olimpo, c/o CAMBIOS NASDAQ LTDA, Bogota, Colombia; DOB 07 Feb 1954; POB Pandi, Cundinamarca, Colombia; Citizen Colombia; Nationality Colombia; Cedula No. 11250581 (Colombia); Passport 11250581 (Colombia); (INDIVIDUAL) [SDNTK].

4. RINCON MOLINA, Myriam, c/o CAMBIOS EL TREBOL, Bogota, Colombia; DOB 29 Jan 1959; POB Girardot, Cundinamarca, Colombia; Citizen Colombia; Nationality Colombia; Cedula No. 20622294 (Colombia); Passport AK739055 (Colombia); (INDIVIDUAL) [SDNTK].

Dated: April 22, 2008.
Barbara Hammerle,
Acting Director, Office of Foreign Assets Control.

[FR Doc. E8-9218 Filed 4-25-08; 8:45 am]

BILLING CODE 4811-45-P